LIBRARY OF CONGRESS

Copyright Office

Notice of Inquiry and Request for Comments on the Topic of Facilitating Access to Copyrighted Works for the Blind or Other Persons With Disabilities; Notice of Public Meeting

AGENCY: Copyright Office, Library of Congress.

ACTION: Notice.

SUMMARY: The United States Copyright Office (Copyright Office) and the United States Patent and Trademark Office (USPTO) announce that interested parties may submit electronic comments and reply comments on facilitating access to copyrighted works for the blind or other persons with disabilities.

DATES: Initial comments are due by 5 p.m. on April 21, 2009. Reply comments are due by 5 p.m. on May 4, 2009.

ADDRESSES: Electronic submissions may be made through the Copyright Office Web site: http://www.copyright.gov/docs/sccr/comments. See the SUPPLEMENTARY INFORMATION section for acceptable electronic file formats and filing requirements. See Notice of Inquiry and Request for Comments; Notice of Public Meeting, 74 FR 13268 (March 26, 2009), for information on other methods of filing comments.

FOR FURTHER INFORMATION CONTACT: Paula Pinha, Attorney-Advisor, Office of Policy and International Affairs. Telephone: (202) 707-7845. E-mail: ppin@loc.gov.

SUPPLEMENTARY INFORMATION: The Copyright Office and the USPTO are adding the option of submitting initial and reply comments electronically to the options for submitting comments that were specified in their previous Notice of March 26, 2009 (74 FR 13268).

A comment page will be posted on the Copyright Office Web site at http://www.copyright.gov/docs/sccr/comments. Approximately one week prior to each comment deadline the comment form will be activated, allowing information to be entered into the required fields and any additional non-required fields. All comments submitted electronically must be submitted as an attachment, and must be in a single file in either Adobe Portable Document File (PDF) format that contains searchable, accessible text (not an image); Microsoft Word; WordPerfect; Rich Text Format (RTF); or ASCII text file format. The maximum file size is 6 megabytes (MB). The attached comment must include the name of the commenter. There will be a browse button on the form that will allow commenters to attach the comment file to the form and then to submit the completed form to the Copyright Office.

The Copyright Office and the USPTO intend to post all comments from this proceeding on the Copyright Office Web site. For comments submitted electronically, the name and organization of the commenter from the comment form will be posted together with the entire attached comment document. Other information from the comment form will not be posted, but note that if the same information is included in the attached document it will be available on the Copyright Office Web site as part of the attachment.

Dated: April 14, 2009.
Marybeth Peters,
Register of Copyrights.

[FR Doc. E9-8865 Filed 4-16-09; 8:45 am]

BILLING CODE 1410-30-P